DEPARTMENT OF TRANSPORTATION

Federal Aviation Administration

14 CFR Part 71

[Docket No. FAA-2022-0301; Airspace Docket No. 22-AAL-21]

RIN 2120-AA66

Revocation of Colored Federal Airway Green 7 (G-7); Nome, AK

AGENCY: Federal Aviation Administration (FAA), DOT.

ACTION: Final rule.

SUMMARY: This action revokes Colored Federal airway Green 7 (G-7) due to the pending decommissioning of the Fort Davis, AK (FDV), Non-Directional Beacon (NDB) in the vicinity of Nome, AK.

DATES: Effective date 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System (NAS).

History

The FAA published a notice of proposed rulemaking (NPRM) for Docket No. FAA-2022-0301 in the Federal Register (87 FR 19413; April 4, 2022), revoking Colored Federal airway G-7 due to the planned decommissioning of the Fort Davis, AK, NDB in the vicinity of Nome, AK. Interested parties were invited to participate in this rulemaking effort by submitting comments on the proposal. One comment was received.

Green Federal airways are published in paragraph 6009(a) of FAA Order JO 7400.11G, dated August 19, 2022, and effective September 15, 2022, which is incorporated by reference in 14 CFR 71.1. The Colored Federal airway listed in this document will be published subsequently in FAA Order JO 7400.11.

Discussion of Comments

In the comment received, the commenter recognized the improved efficiency of the NAS provided by global positioning system (GPS) navigation, but was critical of the cost of installing the equipment into aircraft. The FAA appreciates the comment addressing the improved efficiency GPS provides the NAS and understands the pilot's frustration with the cost of avionics.

Although avionic equipment is costly, the FAA notes that GPS equipment costs have decreased in recent years; whereas the costs of automatic direction finder (ADF) equipment used to navigate via NDB-based Colored Federal airways have continued to increase. The higher ADF equipment costs and associated higher maintenance costs, especially in remote areas of Alaska, support the move away from NDB-based navigation.

The FAA also offers that the revocation of G-7 between the Gambell, AK, NDB and the Norton Bay, AK, NDB does not require GPS equipage as the revocation of G-7 is mitigated by two adjacent VHF Omnidirectional Range (VOR) Federal airways, V-414 and V-452, that extend between the Gambell, AK, NDB and the Norton Bay, AK, NDB. Additionally, the FAA accomplished a traffic study of the G-7 Colored Federal airway between the Gambell NDB and the Fort Davis, AK, NDB that showed no usage of G-7 in recent years. Instead, pilots used V-452 to navigate overwater between Gambell, AK, and Nome, AK; further demonstrating pilots will not require additional GPS equipage to mitigate the revocation of G-7.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by revoking Colored Federal airway G-7 due to the planned decommissioning of the Fort Davis, AK, NDB in the vicinity of Nome, AK. The amendment is described below.

G-7: G-7 extends between the Gambell, AK, NDB and the Norton Bay, AK, NDB. The airway is removed in its entirety.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this airspace action of revoking Colored Federal airway G-7, due to the planned decommissioning of the Fort Davis, AK, NDB, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points), and paragraph 5-6.5k, which categorically excludes from further environmental review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6009(a) Green Federal Airways.

* * * * *

G-7 [Removed]

* * * * *

Issued in Washington, DC, on November 30, 2022.
Scott M. Rosenbloom,
Manager, Airspace Rules and Regulations.

[FR Doc. 2022-26380 Filed 12-5-22; 8:45 am]

BILLING CODE 4910-13-P